ENVIRONMENTAL PROTECTION AGENCY

[FRL-9968-36-OCFO]

Draft FY 2018-2022 Environmental Protection Agency Strategic Plan

AGENCY: Environmental Protection Agency (EPA).

ACTION: Notice of availability, request for public comments.

SUMMARY: The U.S. Environmental Protection Agency (EPA) is announcing the availability of the Draft FY 2018-2022 EPA Strategic Plan for public review and comment, which is being revised as required by the Government Performance and Results Act (GPRA) Modernization Act of 2010. The agency anticipates the final Strategic Plan will be submitted to Congress in February 2018. For this notice, the EPA is seeking comment from individual citizens, states, tribes, local governments, industry, the academic community, non-governmental organizations, and all other interested parties.

DATES: Comments must be received on or before October 31, 2017.

ADDRESSES: Submit your comments, identified by Docket ID No. [EPA-HQ-OA-2017-0533] to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Vivian Daub, Director, Planning Division, Office of Planning, Analysis, and Accountability, Office of the Chief Financial Officer, ocfoinfo@epa.gov.

SUPPLEMENTARY INFORMATION:

Background

The GPRA Modernization Act of 2010 (Pub. L. 111-352), holds federal agencies accountable for using resources wisely and achieving program results. Specifically, the GPRA Modernization Act requires agencies to develop: Strategic Plans, which include a mission statement, set out long-term goals, objectives, and strategic measures, and describe strategies to achieve them over a four-year time horizon; two-year Agency Priority Goals to advance progress toward the highest priorities; Annual Performance Plans, which provide annual performance measures and activities toward the long-term Strategic Plan; and, Annual Performance Reports, which evaluate an agency's success in achieving the annual performance measures.

The Strategic Plan reflects the Administrator's priorities for advancing the Agency's mission to protect human health and the environment by setting three strategic goals:

• Core Mission: Deliver real results to provide Americans with clean air, land, and water.

• Cooperative Federalism: Rebalance the power between Washington and the states to create tangible environmental results for the American people.

• Rule of Law and Process: Administer the law, as Congress intended, to refocus the Agency on its statutory obligations under the law.

This Strategic Plan includes objectives and strategies for achieving the strategic goals, and establishes strategic measures and FY 2018-2019 Agency Priority Goals by which EPA will hold itself accountable to monitor progress in improving significantly the way EPA does business and environmental benefits, engaging closely with public sector partners at all levels and the regulated community.

Dated: September 19, 2017.
David A. Bloom,
Acting Chief Financial Officer, Office of the Chief Financial Officer.

[FR Doc. 2017-21245 Filed 10-4-17; 8:45 am]

BILLING CODE 6560-50-P